DEPARTMENT OF THE INTERIOR

Bureau of Reclamation

Coachella Canal Lining Project, Imperial and Riverside Counties, California

AGENCY: Bureau of Reclamation, Department of the Interior.

ACTION: Notice of Availability of a Final Environmental Impact Statement/Environmental Impact Report (EIS/EIR) for the proposed Coachella Canal Lining Project, Imperial and Riverside Counties, California: FES 01-15.

SUMMARY: Pursuant to section 102(2)(C) of the National Environmental Policy Act (NEPA) of 1969, as amended; the Council on Environmental Quality's Regulations for Implementing the Procedural Provisions of NEPA; and the California Environmental Quality Act (CEQA), the Bureau of Reclamation (Reclamation) and the Coachella Valley Water District (CVWD) have issued a final EIS/EIR for the Coachella Canal Lining Project.

DATES: Reclamation will issue a Record of Decision no sooner than May 11, 2001.

ADDRESSES: See SUPPLEMENTARY INFORMATION for locations and addresses where copies of the document may be reviewed.

FOR FURTHER INFORMATION CONTACT: To request copies of the EIS/EIR or to obtain further information about the Coachella Canal Lining Project, please contact Mr. Don Young, Bureau of Reclamation, Yuma Area Office, 7301 Calle Agua Salada, Yuma, Arizona, 85366; telephone: (520) 343-8159; or Mr. Steve Robbins, Coachella Valley Water District, P.O. Box 1058, Highway 111 and Avenue 52, Coachella, California, 92236; telephone: (760) 398-2651.

SUPPLEMENTARY INFORMATION: The EIS/EIR evaluates several alternatives, including the no-action alternative, and also describes the existing environment and environmental consequences for the lining of 33.2 miles of the Coachella Canal between siphons 7 and 14 and siphons 15 and 32. Lining of the canal would conserve approximately 30,850 acre-feet annually of water presently being lost as seepage from the earthen reaches of the Coachella Canal. A specific quantity of conserved water would be assigned to the Department of the Interior to facilitate implementation, subject to approval, of the San Luis Rey Indian Water Rights Settlement Act (Public Law 100-675, November 17, 1988). Remaining quantities of conserved water would be distributed between mitigation needs and southern California, subject to approval, to meet present water demand and to assist the State in attaining the goals of California's Colorado River Water Use Plan. The EIS/EIR also includes comments received during the 60-day public review of the draft EIS/EIR and provides Reclamation's/Coachella Valley Water District's responses to those comments.

Offices/Libraries Where the Final EIS/EIR is Available for Public Review

• Bureau of Reclamation, Yuma Area Office, Central Files, Room 145, 7301 Calle Agua Salada, Yuma, Arizona; telephone: (520) 343-8147

• Coachella Valley Water District, Highway 111 and Avenue 52, Coachella, California, telephone: (760) 398-2651

• Bureau of Reclamation, Lower Colorado Regional Office, 400 Railroad Avenue, Boulder City, Nevada, telephone: (702) 293-8000

• Bureau of Reclamation, Reclamation Service Center Library, Building 67, Room 167, Denver Federal Center, 6th and Kipling, Denver, Colorado, telephone: (303) 236-6963

• Bureau of Reclamation, Program Analysis Office, Room 7456, 1849 C Street NW., Washington, DC, telephone: (202) 208-4662

• California Department of Water Resources, 6900 Devils Canyon Road, San Bernardino, California; telephone: (909) 886-5028

• Yuma County Library, 350 South Third Avenue, Yuma, Arizona, telephone: (520) 782-1871

• Coachella Branch Library, 1538 7th Street, Coachella, California; telephone: (760) 398-5148

• Brawley Public Library, 400 Main Street, Brawley, California; telephone: (760) 344-1891

• El Centro Public Library, 539 W. State Street, El Centro, California; telephone: (760) 337-4565

• Imperial Public Library, 200 W. 9th Street, Imperial, California; telephone: (760) 355-1332

• Indio Branch Library, 200 Civic Center Mall, Indio, California; telephone: (760) 347-2383

• Palm Springs Library, 300 S. Sunrise Way, Palm Springs, California; telephone: (760) 322-7323

• San Diego Central Library, 820 E Street, San Diego, California; telephone: (619) 236-5800

• Los Angeles Public Library, 630 W. Fifth Street, Los Angeles, California 90071; telephone: (213) 228-7000

Dated: April 4, 2001.
LeGrand Neilson,
Deputy Regional Director.

[FR Doc. 01-10455 Filed 4-26-01; 8:45 am]

BILLING CODE 4310-MN-P